DEPARTMENT OF ENERGY

Federal Energy Regulatory Commission

[Docket No. ER01-1639-000, et al.]

Pacific Gas and Electric Company, et al.; Electric Rate and Corporate Regulation Filings

April 2, 2001.

Take notice that the following filings have been made with the Commission:

1. Pacific Gas and Electric Company

[Docket No. ER01-1639-000]

Take notice that on March 28, 2001, Pacific Gas and Electric Company (PG&E) tendered for filing, proposed amendments to Contract No. 14-06-200-2948A (Contract 2948A), Contract No. DE-AC65-80WP59000 (Delta Contract) and Contract No. DE-MS65-83WP59055 (Cities Contract) between PG&E and the Western Area Power Administration (Western) as filed under PG&E Rate Schedule FERC Nos. 79, 63, and 81. PG&E seeks to amend Contract 2948A: to revise the Energy Rates; apply Scheduling Coordinating costs to Western through a proposed Scheduling Coordinator Cost Pass-Through Rate Appendix; and revise transmission rates for Contract 2948A as well as the Delta and Cities Contracts. PG&E also seeks to pass through Grid Management Charge Pass-Through Tariff costs and Reliability Service Tariff costs to Western in the event Western successfully argues a Contract 2948A, Article 32 bar to applying these tariffs to Western.

Copies of this filing have been served upon the California Independent System Operator Corporation, the California Public Utilities Commission and Western.

Comment date: April 18, 2001, in accordance with Standard Paragraph E at the end of this notice.

2. Virginia Electric and Power Company

[Docket No. ER01-1638-000]

Take notice that on March 28, 2001, Virginia Electric and Power Company (Dominion Virginia Power) tendered for filing a Notice of Cancellation for Rate Schedule FERC No. 121, an agreement with Old Dominion Electric Cooperative (Old Dominion) that provides for Old Dominion to compensate Dominion Virginia Power for the use of certain transmission facilities that provide interconnection services to the Clover Generating Station. The parties have mutually agreed to cancel this rate schedule, which results in the elimination of certain charges for Old Dominion. Dominion Virginia Power requests waiver of the Commission's notice requirements to make this cancellation effective April 1, 2001.

Copies of the filing were served upon Old Dominion, the Virginia State Corporation Commission and the North Carolina Utilities Commission.

Comment date: April 18, 2001, in accordance with Standard Paragraph E at the end of this notice.

3. Florida Power & Light Company

[Docket No. ER01-1571-000]

Take notice that on March 16, 2001 Florida Power & Light Company (FPL) tendered for filing proposed service agreements with AXIA Energy LP for Non-Firm transmission service and Firm transmission service under FPL's Open Access Transmission Tariff.

FPL requests that the proposed service agreements become effective on March 16, 2001.

FPL states that this filing is in accordance with Section 35 of the Commission's regulations

Comment date: April 18, 2001, in accordance with Standard Paragraph E at the end of this notice.

4. Southern Company Services, Inc.

[Docket No. ER01-1164-001]

Take notice that on March 28, 2001, Southern Company Services, Inc. (SCS), by and on behalf of Alabama Power Company, Georgia Power Company, Mississippi Power Company, Gulf Power Company and Savannah Electric and Power Company, tendered for filing original tariff sheets compliant with the formatting requirements of Commission Order No. 614, as needed to implement revised accounting procedures accepted on a qualified basis in the above-stated docket.

Comment date: April 18, 2001, in accordance with Standard Paragraph E at the end of this notice.

5. Bangor Hydro-Electric Company

[Docket No. ER00-980-003]

Take notice that on March 28, 2001, Bangor Hydro-Electric Company (Bangor Hydro), tendered for filing a compliance filing pursuant to the Commission's February 26, 2001, Order Approving Proposed Settlement as Modified, Bangor Hydro-Elec. Co., 94 FERC ¶ 61,208 (Feb. 26, 2001).

Comment date: April 18, 2001, in accordance with Standard Paragraph E at the end of this notice.

6. Seminole Electric Cooperative, Inc.

[Docket No. OA97-140-003]

Take notice that on March 23, 2001, Seminole Electric Cooperative, Inc. (Seminole), submitted a report in compliance with the Commission's letter order of February 21, 2001, in this docket.

Seminole has served a copy of the compliance filing on all parties listed on the service list compiled by the Secretary of the Commission in this docket.

Comment date: May 2, 2001, in accordance with Standard Paragraph E at the end of this notice.

7. Duke Energy Corporation

[Docket No. ER01-1616-001]

Take notice that on March 28, 2001, Duke Energy Corporation (Duke) filed a revised page 11 to its previously-filed Unexecuted Generation Interconnection and Operating Agreement with Carolina Power & Light Company in the above-captioned docket. The Agreement was originally filed on March 26, 2001. The revised page 11 corrects a typographical error.

Comment date: April 19, 2001, in accordance with Standard Paragraph E at the end of this notice.

8. Conectiv Energy, Inc. Conectiv Delmarva Generation, Inc.

[Docket No. EC01-82-000]

Take notice that on March 27, 2001, Conectiv Energy, Inc. (CEI) and Conectiv Delmarva Generation, Inc. (CDG) jointly filed an application pursuant to Section 203 of the Federal Power Act for authorization of a lease agreement whereby CEI will lease to CDG jurisdictional transmission facilities appurtenant to four generating units under construction that CEI is also leasing to CDG. The four generating units are Hay Road 5, Hay Road 6, Hay Road 7 and Hay Road 8 whose total generating capacity will be 550 MW when construction is completed.

A copy of the filing has been served on the Delaware Public Service Commission.

Comment date: April 17, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-8587 Filed 4-6-01; 8:45 am]

BILLING CODE 6717-o1-P